DEPARTMENT OF TRANSPORTATION

Office of the Secretary

Aviation Proceedings, Agreements Filed the Week Ending March 28, 2008

The following Agreements were filed with the Department of Transportation under sections 412 and 414 of the Federal Aviation Act, as amended (49 U.S.C. 1382 and 1384) and procedures governing proceedings to enforce these provisions. Answers may be filed within 21 days after the filing of the application.

Docket Number: DOT-OST-2008-0120.

Date Filed: March 25, 2008.

Parties: Members of the International Air Transport Association.

Subject: TC23/123 Middle East-South West Pacific, Resolutions and Specified Fares Tables, (Memo 0349), Intended effective date: 1 April 2008.

Docket Number: DOT-OST-2008-0122.

Date Filed: March 27, 2008.

Parties: Members of the International Air Transport Association.

Subject: TC2 Europe-Middle East (Memo 0243). TC2 Europe-Africa (Memo 0254). Expedited Composite Resolutions. Minutes: TC2 Europe-Middle East (Memo 0245). Minutes: TC2 Europe-Africa (Memo 0255). Intended effective date: 1 November 2008.

Docket Number: DOT-OST-2008-0123.

Date Filed: March 28, 2008.

Parties: Members of the International Air Transport Association.

Subject: Mail Vote 560—Flex Fares Package. TC23/123 Europe-Japan. Korea Special Passenger Amending. Resolutions Between Europe and Korea (Rep. of), Korea (Dem. Rep. of), (Memo 0169). Intended effective date: 1 June 2008.

Renee V. Wright,
Program Manager, Docket Operations, Federal Register Liaison.

[FR Doc. E8-13447 Filed 6-13-08; 8:45 am]

BILLING CODE 4910-9X-P